COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products and services to the Procurement List that will be furnished by nonprofit agencies employing persons who are blind or have other severe disabilities.

DATES: Comments must be received on or before: February 2, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

7530-00-NIB-1274—Surface Safe Sign Label, Removable, Laser/Inkjet, White, 3½″ x 5″, 15 Sheets

7530-00-NIB-1275—Surface Safe Sign Label, Removable, Laser/Inkjet, White, 5″ x 7″, 15 Sheets

7530-00-NIB-1276—Surface Safe Sign Label, Removable, Laser/Inkjet, White, 7″ x 10″, 15 Sheets

7530-00-NIB-1277—Surface Safe Sign Label, Removable, Laser/Inkjet, White, 8″ x 8″, 15 Sheets

7530-00-NIB-1220—Labels, Self-Laminating, Laser/Inkjet, White, 2 5/16″ x 3 5/16″, 25 Sheets

7530-00-NIB-1223—Labels, Self-Laminating, Laser/Inkjet, White, 1 1/32″ x 3½″, 25 Sheets

7530-00-NIB-1278—Business Cards, Uncoated, Two-Sided Printing, White, 2″ x 3½″, 200 Cards

7530-00-NIB-1287—Business Cards, Uncoated, Two-Sided Printing, White, 2″ x 3½″, 1000 Cards

7530-00-NIB-1279—Tent Cards, Uncoated, Embossed, Two-Sided Printing, White, 3½″ x 11″, 50 Cards

7530-00-NIB-1280—Tent Cards, Uncoated, Embossed, Two-Sided Printing, White, 2½″ x 8½″, 100 Cards

7530-00-NIB-1270—Name Badge, Laser/Inkjet, 2⅓″ x 3⅜″, White, 50 Sheets

Mandatory Source of Supply: North Central Sight Services, Inc., Williamsport, PA

Mandatory For: Total Government Requirement

Contracting Activity: FEDERAL ACQUISITION SERVICE, GSA/FAS ADMIN SVCS ACQUISITION BR(2)

Services

Service Type: Fourth Party Logistics (4PL) Sourcing and Logistics Support Services

Mandatory For: DoD Locations in the United States and Territories as determined by the General Services Administration

Mandatory Source of Supply: To be from among the pool of current AbilityOne Program Base Supply Center Operators, as follows:

Alabama Industries for the Blind, Talladega, AL

Alphapointe, Kansas City, MO

Arizona Industries for the Blind, Phoenix, AZ

Associated Industries for the Blind/Beyond Vision. Milwaukee, WI

Beacon Lighthouse, Inc., Wichita Falls, TX

BH Services Inc., Ellsworth AFB, SD

Blind Industries & Services of MD, Baltimore, MD

Central Association for the Blind, Utica, NY

Cincinnati Association for the Blind & Visually Impaired, Cincinnati, OH

Envision Industries, Wichita, KS

Winston-Salem Industries for the Blind, Inc., Winston-Salem, NC

Industries for the Blind and Visually Impaired, Inc., West Allis, WI

LC Industries, Durham, NC

Louisiana Association for the Blind, Shreveport, LA

RLCB Inc., Raleigh, NC

San Antonio Lighthouse for the Blind, San Antonio, TX

Lighthouse for the Blind, Inc. Seattle, Seattle, WA

South Texas Lighthouse for the Blind, Corpus Christi, TX

Virginia Industries for the Blind, Charlottesville, VA

Contracting Activity: General Services Administration

Patricia Briscoe,
Deputy Director, Business Operations (Pricing and Information Management).

[FR Doc. 2019-28369 Filed 1-2-20; 8:45 am]

BILLING CODE 6353-01-P